DEPARTMENT OF ENERGY

Federal Energy Regulatory Commission

[Docket No. RP04-244-000]

Vector Pipeline L.P.; Notice Of Annual Fuel Use Report

April 6, 2004.

Take notice that on March 31, 2004, Vector Pipeline L.P. (Vector) tendered for filing an annual report of its monthly fuel use ratios for the period January 1, 2003, through December 31, 2003.

Vector states that this filing is made pursuant to section 11.4 of the General Terms and Conditions of the Vector Gas Tariff and section 154.502 of the Commission's regulations.

Any person desiring to be heard or to protest said filing should file a motion to intervene or a protest with the Federal Energy Regulatory Commission, 888 First Street, NE., Washington, DC 20426, in accordance with sections 385.214 or 385.211 of the Commission's rules and regulations. All such motions or protests must be filed on or before the date has indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Intervention and Protest Date: April 13, 2004.

Linda Mitry,
Acting Secretary.

[FR Doc. E4-810 Filed 4-13-04; 8:45 am]

BILLING CODE 6717-01-P